DEPARTMENT OF ENERGY

Federal Energy Regulatory Commission

[Project No. 11810-004]

Notice of Intent To Prepare a Multi-Project Environmental Assessment and Notice of Paper Scoping and Soliciting Scoping Comments

March 19, 2003.

Take notice that the following hydroelectric application has been filed with Commission and is available for public inspection:

a. Type of Application: Original Major License, constructed project.

b. Project No.: P-11810-004.

c. Date filed: January 30, 2003.

d. Applicant: City of Augusta.

e. Name of Project: Augusta Canal Project.

f. Location: Adjacent to the Savannah River, in Richmond County, Georgia, near the town of Augusta, Georgia. The project does not occupy Federal lands.

g. Filed Pursuant to: Federal Power Act, 16 U.S.C. 791(a)—825(r).

h. Applicant Contact: Max Hicks, Director, Utilities Department, 360 Bay Street, Suite 180, Augusta, GA 30901, (706) 312-4121

i. FERC Contact: Monte TerHaar, (202) 502-6035 or monte.terhaar@ferc.gov.

j. Deadline for filing scoping comments: 60 days from issuance date of this notice.

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's Web site (http://www.ferc.gov) under the “e-Filing” link.

k. This application is not ready for environmental analysis at this time.

l. Project Description: The City of Augusta does not propose to construct hydroelectric generation facilities and the project would produce no power. Augusta is proposing to license parts of the Augusta Canal system which pass flows for use by three existing hydroelectric projects located in the Augusta Canal. These projects are the 1.2 megawatt (MW) Enterprise Project (No. 2935), the 2.475 MW Sibley Mill Project (No. 5044), and the 2.05 MW King Mill Project (No. 9988). The proposed project would consist of the following: (1) The 1,666-foot-long stone-masonry Augusta Diversion Dam; (2) the 2,250-foot-long and 190 acre Savannah River impoundment between Steven's Creek Dam and the Augusta Diversion Dam; and (3) the first level of the Augusta Canal, which extends about 7 miles between the Augusta Diversion Dam and the Thirteenth Street gates.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Scoping Process: Scoping is intended to advise all parties regarding the proposed scope of the EA and to seek additional information pertinent to this analysis. The Commission intends to prepare one multi-project Environmental Assessment (EA) for the Augusta Canal Project in combination with the Enterprise Mill Project and the Sibley Mill Project according to the National Environmental Policy Act. The EA will consider both site-specific and cumulative environmental impacts and reasonable alternatives to the proposed action. Should substantive comments requiring reanalysis be received on the NEPA document, we would consider preparing a subsequent NEPA document.

At this time, the Commission staff does not anticipate holding formal public or agency scoping meetings near the project site. Instead, staff will conduct paper scoping.

A Scoping Document (SD) outlining the subject areas to be addressed in the EA were distributed to the parties on the Commission's mailing list. Copies of the SD may be viewed on the web as described in item m, above.

As part of scoping the staff will: (1) Summarize the environmental issues tentatively identified for analysis in the EA; (2) solicit from comments all available information, especially quantifiable data, on the resources at issue; (3) encourage comments from experts and the public on issues that should be analyzed in the EA, including viewpoints in opposition to, or in support of, the staff's preliminary views; (4) determine the resource issues to be addressed in the EA; and (5) identify those issues that require a detailed analysis, as well as those issues that do not require a detailed analysis.

Consequently, interested entities are requested to file with the Commission any data and information concerning environmental resources and land uses in the project area and the subject project's impacts to the aforementioned.

o. The preliminary schedule for preparing the subject EA is as follows:

Milestone Target Date

Scoping Document 1—March 2003

Comments on Scoping Document 1—May 2003

Issue Acceptance Letter/Request Additional Information—May 2003

Additional Information Due—July 2003

Notice of Ready for Environmental Analysis/Notice Soliciting Final Terms and Conditions—July 2003

Deadline for Agency Recommendations—September 2003

Notice of the Availability of the EA—November 2003

Public Comments on EA Due—January 2004

Read for Commission's Decision on the Application—March 2004

Magalie R. Salas,
Secretary.

[FR Doc. 03-7212 Filed 3-25-03; 8:45 am]

BILLING CODE 6717-01-P